DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (Federal Register, Vol. 75, No. 56, pp. 14178, dated Wednesday, March 24, 2010) is amended to reflect updates to the functions for the Center for Strategic Planning (FCK).

Part F. is described below:

• Section FC. 20. (Functions) reads as follows:

Center for Strategic Planning (FCK)

• Provide senior leadership over the strategic planning process and the development of CMS strategic goals, metrics, and plans.

• Direct the development of financial and health care trend analysis and management insight report to inform senior CMS leadership strategic decision making.

• Set priorities for CSP direction, budget, personnel, and staff development.

• Translate statistical data into information useful to agency leadership.

• Provide leadership to the development of performance dashboards and databases for key agency initiatives.

• Provide leadership in maintaining and ensuring quality of data resources needed for testing and evaluating demonstrations and innovations.

• Direct the development of enterprise business plans, process requirement for CMS post ACA administrative, provider, and customer services process.

• Facilitate plans for IT Integration of data resources and data services.

• Coordinate policy analysis, development and execution for CMS.

• Build and maintain agency capacity to perform analysis of regional variation in the quality and cost of care.

• Conduct and manage surveys to capture information about beneficiary populations that our programs serve that is not available in the administrative data. This includes the Medicare Current Beneficiary Survey (MCBS) and the Medicare Health Outcomes Survey (HOS).

• Conduct and manage the Research Data Assistance Center (RESDAC), Research Data Distribution Center (RDDC) and Chronic Condition Warehouse (CCW) activities.

• Operationalize research-usable files for Medicare, Medicaid, and CHIP administrative data.

Dated: March 24, 2011.
Marilyn Tavenner,
Principal Deputy Administrator and Chief Operating Officer, Centers for Medicare & Medicaid Services.

[FR Doc. 2011-7903 Filed 4-1-11; 8:45 am]

BILLING CODE 4120-01-P